DEPARTMENT OF HOUSING AND URBAN DEVELOPMENT

[Docket No. FR-5837-N-01]

60-Day Notice of Proposed Information Collection: Rent Reform Demonstration (Task Order 2)

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 15, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Rent Reform Demonstration.

Type of Request: Revision of existing collection (OMB#2528-0306).

Description of the need for the information and proposed use: The Department is conducting this study under contract with MDRC and its subcontractors (Branch Associates, The Bronner Group, Quadel Consulting Corporation, and the Urban Institute). The project is a random assignment trial of an alternative rent system. Families will be randomly assigned to participate either in the new/alternative rent system or to continue in the current system. For voucher holders, outcomes of the alternative system are hypothesized to be increases in earnings, employment and job retention, among others. Random assignment will limit the extent to which selection bias drives observed results. The demonstration will document the progress of a group of housing voucher holders, who will be drawn from current residents. The intent is to gain an understanding of the impact of the alternative rent system on the families as well as the administrative burden on Public Housing Agencies (PHAs). Four PHAs currently participating in the Moving to Work (MtW) Demonstration are participating in the demonstration:

(1) Lexington Housing Authority (LHA), Lexington, Kentucky;

(2) Louisville Metro Housing Authority (LMHA), Louisville, Kentucky;

(3) San Antonio Housing Authority (SAHA), San Antonio, Texas; and

(4) District of Columbia Housing Authority (DCHA), Washington, DC

Data collection will include the families that are part of the treatment and control groups, as well as PHA staff. Data for this evaluation will be gathered through a variety of methods including informational interviews and discussions, direct observation, and analysis of administrative records. The work covered under this information request is for data collection proposed under the first of two required OMB submissions of the Task Order 2 of the Rent Reform Demonstration.

Respondents: 156.

This includes:

• Public Housing Authority Staff: Up to 44 (i.e., assuming up to 11 staff at up to 4 PHAs).

• Families with housing vouchers participating in the Rent Reform Demonstration, up to 80.

Information collection | Number of respondents | Frequency of response | Responses per annum | Burden hour per response | Annual burden hours | Hourly cost per response | Annual cost
Study Participant Interviews and/or Focus Groups | 80 participants (20 participants * 4 sites) | Once | One | 90 minutes, on average (1.5 hours) | 120 (80 * 1.5) | ¹$8.13 | $487.80 (40 employed sample members * $8.13 * 1.5 hours).
PHA Staff Interviews | 32 staff (8 staff ² * 4 sites) | Once | One | 90 minutes, on average (or 1.5 hours) | 48 hours (32 * 1.50) | ³24.33 | 1,167.84 (32 staff * $24.33 * 1.5 hours).
Housing Authority Database Extraction Activities by PHA staff | 4 staff (1 staff * 4 sites) | 8 responses in the covered period (monthly through January 2015, then annually through 2018) | Four in 2015, two in 2016, one in 2017, one in 2018 | 60 minutes, on average (or 1 hour) | 16 hours (4 staff * 1 hour * 4 responses in 2015) | ⁴33.58 | 537.28 (4 staff * $33.58 * 1 hour * 4 responses in 2015).
Cost Study Data Collection Activities with PHA staff | 8 staff (2 staff * 4 sites) | Three times over the covered period | One | 120 minutes, on average (or 2 hours) | 16 hours (8 staff * 2 hours) | 33.58 | 537.28 (8 staff * $33.58 * 2 hours).
Interviews to understand implementation of new rent model. Includes meetings with PHA staff for technical assistance purposes | 32 staff (8 staff * 4 sites) | Four times | Up to four times | 30-60 minutes (or .5 to 1 hours) Incorporated into technical assistance, monitoring visits and follow-up | 128 hours (4 one-hour meetings * 32 staff) | 24.33 | 2,983 (32 staff * $24.33 * 1 hour * 4 meetings).
TOTAL | 156 |  |  |  | 328 |  | $5,844.44
¹ Households participating in the Rent Reform Demonstration will range widely in employment position and earnings. We have estimated the hourly wage at the expected prevailing minimum wage, which is $7.25 per hour in Kentucky and Texas. The hourly minimum wage in the District of Columbia is expected to be $10.50 by Q3 of 2015. (Source: District of Columbia Department of Employment Services, http://does.dc.gov/sites/default/files/dc/sites/does/page_content/attachments/DC%20Minimum%20Wage%20Increase%20-%20DC%/20Register%20Public%20Notice.pdf.) Accordingly, we assume an hourly rate across all sites of $8.13 that represents an average of these two rates, weighted by the pledged sample at each site. (2,000 pledged participants in Washington, DC and 5,400 pledged in the remaining sites.) Moreover, we expect about 50 percent of the participants to be employed at the time of study entry. A recent report by the Center on Budget and Policy Priorities, some 55 percent of non-elderly, non-disabled households receiving voucher assistance reported earned income in 2010. The typical (median) annual earnings for these families were $15,600, only slightly more than the pay from full-time, year-round minimum-wage work. (http://www.cbpp.org/cms/?fa=view&id=3634). Based on this, we assumed 50% of tenants would be working at the federal minimum wage.
² Number of PHA staff interviews could increase if the housing agency deploys more staff to work on activities related to Rent Reform implementation.
³ For program staff participating in interviews, the estimate uses the median hourly wages of selected occupations (classified by Standard Occupational Classification (SOC) codes) was sourced from the Occupational Employment Statistics from the U.S. Department of Labor's Bureau of Labor Statistics. Potentially relevant occupations and their median hourly wages are:

Occupation | SOC Code | Median hourly wage rate
Community and Social Service Specialist | 21-1099 | $19.26
Social/community Service Manager | 11-9151 | 29.40
Source: Occupational Employment Statistics, accessed online March 20, 2015 at http://www.bls.gov/oes/current/oes_stru.htm.
To estimate cost burden to program staff respondents, we use an average of the occupations listed, or $24.33/hr.
⁴ For program staff supporting data extraction activities, the estimate uses the median hourly wages of selected relevant occupations in a manner similar to the above. A standard wage assumption of $33.58 was created by averaging median hourly wage rates for these occupations:

Occupation | SOC Code | Median hourly wage rate
Database Administrator | 15-1141 | $37.75
Social/community Service Manager | 11-9151 | 29.40
Source: Occupational Employment Statistics, accessed online March 22, 2015 at http://www.bls.gov/oes/current/oes_stru.htm.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority: Section 3507 of the Paperwork Reduction Act of 1995, 44 U.S.C. chapter 35.

Dated: April 2, 2015.
Katherine O'Regan,
Assistant Secretary for Policy Development and Research.

[FR Doc. 2015-08538 Filed 4-13-15; 8:45 am]

BILLING CODE 4210-67-P